DEPARTMENT OF LABOR

Employment and Training Administration

[TA-W-60,659]

Colgate Palmolive Company; Kansas City, KS; Notice of Termination of Investigation

Pursuant to Section 221 of the Trade Act of 1974, as amended, an investigation was initiated on December 22, 2006, in response to a worker petition filed by the Missouri Workforce Development Specialist on behalf of workers at Colgate Palmolive Company, Kansas City, Kansas.

The petitioner has requested that the petition be withdrawn. Consequently, the investigation has been terminated.

Signed at Washington, DC, this 28th day of December, 2006.
Richard Church,
Certifying Officer, Division of Trade Adjustment Assistance.

[FR Doc. E7-146 Filed 1-9-07; 8:45 am]

BILLING CODE 4510-30-P